DEPARTMENT OF AGRICULTURE

Foreign Agricultural Service

7 CFR Part 1520

RIN 0551-AA61

Administrative Regulations for the Freedom of Information Act

AGENCY: Foreign Agricultural Service, USDA.

Correction

In rule document 02-17452 beginning on page 45895 in the issue of Thursday, July 11, 2002, make the following correction:

On page 45895, in the first column, the subagency name and the CFR title and part should read as set forth above.

[FR Doc. C2-17452 Filed 7-22-02; 8:45 am]

BILLING CODE 1505-01-D